DEPARTMENT OF HEALTH AND HUMAN SERVICES

Health Resources and Services Administration

Non-Competitive Program Expansion Supplement To Revise, Update, and Disseminate Educational Curricula Regarding Alzheimer's Disease and Related Dementias

AGENCY: Health Resources and Services Administration, HHS.

ACTION: Notice of a Non-Competitive Program Expansion Supplement To Revise, Update, and Disseminate Educational Curricula Regarding Alzheimer's Disease and Related Dementias.

SUMMARY: The Health Resources and Services Administration (HRSA) will be issuing a non-competitive program expansion supplement to 45 Geriatric Education Centers (GEC) Program grantees to revise, update, and disseminate educational curricula regarding Alzheimer's Disease and related dementias (AD). Approximately $2,000,000 will be available in Fiscal Year (FY) 2012 and $4,000,000 in FY 2013 from the Prevention and Public Health Fund, created by the Affordable Care Act. The GEC grantees have the capacity, capability, expertise, experience, and infrastructure to expeditiously, effectively, and efficiently implement the AD initiative within their existing educational programming. The programmatic supplements will allow the Bureau of Health Professions to consolidate resources and provide enhanced technical assistance, grant funds, grant monitoring and oversight to the AD initiative within currently existing grants.

SUPPLEMENTARY INFORMATION:

Grantees of record and intended award amounts are:

Grantee name | Grant No. | State | 2012 Projected awards | 2012 Supplement amount
University of Alabama at Birmingham | UB4HP19045 | Alabama | $216,000.00 | $42,222
Arizona Board of Regents | UB4HP19047 | Arizona | 399,771.00 | 42,222
University of Arkansas | UB4HP19048 | Arkansas | 421,310.00 | 42,222
Board of Trustees of the Leland Stanford Junior University | UB4HP19049 | California | 399,772.00 | 42,222
The Regents of the University of California, Los Angeles | UB4HP19202 | California | 426,192.00 | 42,222
The Regents of the University of California, San Francisco | UB4HP19046 | California | 424,203.00 | 42,222
NOVA Southeastern University | UB4HP19211 | Florida | 431,907.00 | 42,222
University of Miami | UB4HP19066 | Florida | 427,185.00 | 42,222
Emory University | UB4HP19215 | Georgia | 419,472.00 | 42,222
University of Hawaii | UB4HP19065 | Hawaii | 427,920.00 | 42,222
University of Iowa | UB4HP19054 | Iowa | 426,650.00 | 42,222
University of Kansas Medical Center Research Institute | UB4HP19192 | Kansas | 429,472.00 | 42,222
University of Kentucky Research Foundation | UB4HP19051 | Kentucky | 409,280.00 | 42,222
University of New England | UB4HP19207 | Maine | 216,000.00 | 42,222
Johns Hopkins University | UB4HP19193 | Maryland | 426,800.00 | 42,222
Regents of the University of Minnesota | UB4HP19196 | Minnesota | 424,811.00 | 42,222
Saint Louis University | UB4HP19060 | Missouri | 427,879.00 | 42,222
The University of Montana | UB4HP19056 | Montana | 429,725.00 | 42,222
Board of Regents, NSHE, on behalf of University of Nevada—Reno | UB4HP19205 | Nevada | 418,751.00 | 42,222
Trustees of Dartmouth College | UB4HP19206 | New Hampshire | 425,443.00 | 42,222
UMDNJ—School of Osteopathic Medicine | UB4HP19059 | New Jersey | 423,459.00 | 42,222
Mount Sinai School of Medicine | UB4HP19194 | New York | 421,698.00 | 42,222
University of Rochester | UB4HP19204 | New York | 415,498.00 | 42,222
Duke University | UB4HP19203 | North Carolina | 215,713.00 | 42,222
University of North Carolina at Chapel Hill | UB4HP19053 | North Carolina | 420,000.00 | 42,222
University of Oklahoma Health Sciences Center | UB4HP19197 | Oklahoma | 416,609.00 | 42,222
Oregon Health and Science University | UB4HP19057 | Oregon | 418,002.00 | 42,222
Thomas Jefferson University | UB4HP19061 | Pennsylvania | 417,200.00 | 42,222
University of Pennsylvania | UB4HP19214 | Pennsylvania | 427,795.00 | 42,222
University of Pittsburgh | UB4HP19199 | Pennsylvania | 416,712.00 | 42,222
University of Rhode Island | UB4HP19208 | Rhode Island | 424,589.00 | 42,222
University of South Carolina | UB4HP19212 | South Carolina | 422,640.00 | 42,222
Meharry Medical College | UB4HP19055 | Tennessee | 418,222.00 | 42,222
Baylor College of Medicine | UB4HP19052 | Texas | 414,000.00 | 42,222
Texas Tech University Health Sciences Center | UB4HP19201 | Texas | 215,216.00 | 42,222
The University of Texas Health Science Center at Houston | UB4HP19058 | Texas | 216,000.00 | 42,222
The University of Texas Health Science Center at San Antonio | UB4HP19063 | Texas | 420,800.00 | 42,222
The University of Texas Medical Branch at Galveston | UB4HP19213 | Texas | 432,000.00 | 42,222
Virginia Commonwealth University | UB4HP19210 | Virginia | 421,601.00 | 42,222
University of Washington | UB4HP19195 | Washington | 216,000.00 | 42,222
George Washington University | UB4HP19200 | Washington, DC | 420,738.00 | 42,222
West Virginia University Research Corp | UB4HP19050 | West Virginia | 428,800.00 | 42,222
Marquette University | UB4HP19062 | Wisconsin | 412,012.00 | 42,222
University of Wyoming | UB4HP19198 | Wyoming | 426,751.00 | 42,222
Total |  |  | 17,734,743.00 | 1,899,990

Intended Recipients of the Award: 45 Existing GEC awardees.

Amount of the Awards: $42,222.

Project Period: July 1, 2012 through June 30, 2014.

Authority: Section 753(a) of the Public Health Service Act, as amended by Section 5305 of the Affordable Care Act.

Justification

The programmatic supplements will allow the Bureau of Health Professions to consolidate resources and provide enhanced technical assistance, grant funds, grant monitoring and oversight to the AD initiative within currently existing grants. Providing the additional funding to existing grantees also has benefits for program evaluative purposes since the GEC grantees already have evaluation requirements with which they comply. This programmatic supplement aligns with the current GEC budget period cycle, resulting in administrative savings over a competitive grant making process.

FOR FURTHER INFORMATION CONTACT: Joan Weiss, Ph.D., RN, CRNP, Health Resources and Services Administration, Division of Public Health and Interdisciplinary Education, 5600 Fishers Lane, Room 9C-05, Rockville, Maryland 20857, or email jweiss@hrsa.gov.

Dated: April 11, 2012.
Mary K. Wakefield,
Administrator.

[FR Doc. 2012-9231 Filed 4-16-12; 8:45 am]

BILLING CODE 4165-15-P